DEPARTMENT OF ENERGY

Federal Energy Regulatory Commission

[Docket No. AD19-19-000]

Notice of Workshop; Grid-Enhancing Technologies

Take notice that the Federal Energy Regulatory Commission (Commission) will convene a staff-led workshop in the above-referenced proceeding on Tuesday and Wednesday, November 5-6, 2019 from approximately 8:45 a.m. to 5:00 p.m. Eastern time. The conference will be held at Commission headquarters, 888 First Street NE, Washington, DC 20426. Commissioners may attend and participate.

The purpose of this workshop is to discuss grid-enhancing technologies that increase the capacity, efficiency, or reliability of transmission facilities. Panelists and staff will discuss how grid-enhancing technologies are currently used in transmission planning and operations, the challenges to their deployment and implementation, and what the Commission can do regarding those challenges, including incentivizing or requiring the adoption of grid-enhancing technologies by utilities and RTOs/ISOs. These technologies include, but are not limited to: (1) Power flow control and transmission switching equipment; (2) storage technologies, and (3) advanced line rating management technologies. Participants at this workshop will include representatives from utilities, RTOs/ISOs, technology vendors, researchers, and other interested parties. Further details and a formal agenda will be issued prior to the conference.

The workshop will be open for the public to attend. Advance registration is not required to attend, but is encouraged. Attendees may register at the following web page: http://www.ferc.gov/whats-new/registration/11-06-19-form.asp. In-person attendees should allow time to pass through building security procedures before the start time of the workshop.

Those wishing to participate as a panel member in this conference should submit a nomination form online by 5:00 p.m. on September 20, 2019 at: http://www.ferc.gov/whats-new/registration/11-06-19-speaker-form.asp. At this web page, please provide an abstract of the issue(s) you propose to address. Due to time constraints, we may not be able to accommodate all those interested in being panelists. There will also be opportunity for audience participation.

The workshop will be transcribed and webcast. Transcripts will be available for a fee from Ace Reporting (202-347-3700). A link to the webcast of this event will be available in the Commission Calendar of Events at www.ferc.gov. The Capitol Connection provides technical support for the webcasts and offers the option of listening to the workshop via phone-bridge for a fee. For additional information, visit www.CapitolConnection.org or call (703) 993-3100.

Commission conferences are accessible under section 508 of the Rehabilitation Act of 1973. For accessibility accommodations, please send an email to accessibility@ferc.gov or call toll free 1-866-208-3372 (voice) or 202-208-8659 (TTY), or send a fax to 202-208-2106 with the required accommodations.

For more information about this workshop, please contact Samin Peirovi at Samin.Peirovi@ferc.gov or (202) 502-8080. For information related to logistics, please contact Sarah McKinley at Sarah.Mckinley@ferc.gov or (202) 502-8368.

Dated: September 9, 2019.
Kimberly D. Bose,
Secretary.

[FR Doc. 2019-19954 Filed 9-13-19; 8:45 am]

BILLING CODE 6717-01-P